NATIONAL TRANSPORTATION SAFETY BOARD

Sunshine Act Meeting; Agenda

Time and Date: 1:30 p.m., July 22, 2008.

Place: NTSB Conference Center, 429 L'Enfant Plaza, SW., Washington, DC 20594.

Status: The one item is open to the public.

Matter to be Considered: 7907B Marine Accident Report—Grounding of the U.S. Passenger Vessel Empress of the North, 20 miles Southwest of Juneau, Alaska, on May 14, 2007.

News Media Contact: Telephone: (202) 314-6100.

Individuals requesting specific accommodations should contact Rochelle Hall at (202) 314-6305 by Friday, July 18, 2008.

The public may view the meeting via a live or archived Webcast by accessing a link under “News & Events” on the NTSB home page at http://www.ntsb.gov.

For More Information Contact: Vicky D'Onofrio, (202) 314-6410.

Dated: July 11, 2008.
Vicky D'Onofrio,
Federal Register Liason Officer.

[FR Doc. E8-16322 Filed 7-16-08; 8:45 am]

BILLING CODE 7533-01-M